ENVIRONMENTAL PROTECTION AGENCY

[EPA-HQ-SFUND-2004-0006; FRL—9923-65-OEI]

Information Collection Request Submitted to OMB for Review and Approval; Comment Request; Community Right-to-Know Reporting Requirements Under Sections 311 and 312 of the Emergency Planning and Community Right-to-Know Act (EPCRA) (Renewal)

AGENCY: Environmental Protection Agency (EPA).

ACTION: Notice.

SUMMARY: The Environmental Protection Agency (EPA) has submitted an information collection request (ICR), “Community Right-to-Know Reporting Requirements under Sections 311 and 312 of the Emergency Planning and Community Right-to-Know Act (EPCRA) (Renewal)” (EPA ICR No. 1352.13, OMB Control No. 2050-0072) to the Office of Management and Budget (OMB) for review and approval in accordance with the Paperwork Reduction Act (44 U.S.C. 3501 et seq.). This is a proposed extension of the ICR, which is currently approved through April 30, 2015. Public comments were previously requested via the Federal Register (79 FR 71753) on December 3, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 27, 2015.

ADDRESSES: Submit your comments, referencing Docket ID Number, EPA-HQ-SFUND-2004-0006, to (1) EPA online using www.regulations.gov (our preferred method), by email to superfund.docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, Mail Code 5104A, Environmental Protection Agency, 1200 Pennsylvania Ave. NW., Washington, DC 20460; telephone number: (202) 564-8019; email address: jacob.sicy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Sections 311 and 312 of the Emergency Planning and Community Right-to-Know Act (EPCRA), 1986 (42 U.S.C. 11011, 11012) require owners and operators of facilities subject to OSHA Hazard Communication Standard (HCS) to submit an inventory form of chemicals or MSDSs (for those chemicals that exceed thresholds, specified in 40 CFR part 370) to the State Emergency Response Commission (SERC), Tribal Emergency Response Commission (TERC), Local Emergency Planning Committee (LEPC), Tribal Emergency Planning Committee (TEPC) and the local fire department (LFD) with jurisdiction over their facility.

The submittal of an inventory form allows local emergency planners/responders and the community to have access to information regarding the hazards of a chemical at any given facility.

Form Numbers: EPA Form No. 8700-30.

Respondents/affected entities: Facilities required to prepare or have available a material safety data sheet for any hazardous chemical under the OSHA Hazard Communication Standard.

Respondent's obligation to respond: Mandatory under EPCRA Sections 311 and 312.

Estimated number of respondents: 403,052 respondents.

Frequency of response: Annually.

Total estimated burden: 5,915,254 hours (per year). Burden is defined at 5 CFR 1320.03(b).

Total estimated cost: $254,413,726 (per year), which includes $6,593,300 annualized capital or operation & maintenance costs.

Changes in the Estimates: There is an increase of 2,006,122 hours in the total estimated respondent burden compared with the ICR currently approved by OMB. This increase is due to a revised estimate of facilities subject to EPCRA sections 311 and 312.

Courtney Kerwin,
Acting Director, Collection Strategies Division.

[FR Doc. 2015-07026 Filed 3-26-15; 8:45 am]

BILLING CODE 6560-50-P